DEPARTMENT OF AGRICULTURE

Animal and Plant Health Inspection Service

[Docket No. APHIS-2013-0070]

Notice of Request for Extension of Approval of an Information Collection; Swine Health

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations to prevent the interstate spread of swine diseases and protect swine health.

DATES: We will consider all comments that we receive on or before November 25, 2013.

ADDRESSES: You may submit comments by either of the following methods:

• Federal eRulemaking Portal: Go to http://www.regulations.gov/#!documentDetail;D=APHIS-2013-0070-0001.

• Postal Mail/Commercial Delivery: Send your comment to Docket No. APHIS-2013-0070, Regulatory Analysis and Development, PPD, APHIS, Station 3A-03.8, 4700 River Road Unit 118, Riverdale, MD 20737-1238.

Supporting documents and any comments we receive on this docket may be viewed at http://www.regulations.gov/#!docketDetail;D=APHIS-2013-0070 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations to prevent the interstate spread of swine diseases and to protect swine health, contact Dr. Troy Bigelow, Swine Health Veterinarian, NCAHP, VS, APHIS, 210 Walnut Street, Room 891, Des Moines, IA 50309; (301) 851-3304. For copies of more detailed information on the information collection, contact Mrs. Celeste Sickles, APHIS' Information Collection Coordinator, at (301) 851-2908.

SUPPLEMENTARY INFORMATION:

Title: Swine Health.

OMB Number: 0579-0137.

Type of Request: Extension of approval of an information collection.

Abstract: Under the Animal Health Protection Act (7 U.S.C. 8301 et seq.), the Animal and Plant Health Inspection Service (APHIS) of the U.S. Department of Agriculture (USDA) is authorized, among other things, to prohibit or restrict the interstate movement of animals and animal products to prevent the dissemination within the United States of animal diseases and pests of livestock and to conduct programs to detect, control, and eradicate pests and diseases of livestock. APHIS regulations at 9 CFR, chapter I, subchapter C, govern the interstate movement of animals and other articles to prevent the spread of pests and diseases of livestock within the United States.

The regulations in part 71 contain requirements for the interstate movement of swine within a production system to prevent the spread of swine diseases, and part 85 regulates the interstate movement of swine to prevent the spread of the pseudorabies virus (PRV). In addition, part 52 allows for the payment of indemnity, under the Pseudorabies Eradication Program, to owners for depopulation of swine known to be infected with PRV. These regulations protect the health of the U.S. swine population.

Information collection activities associated with the regulations include, for part 71, a swine production system health plan, an interstate movement report and notification, a Quarterly Report of Pseudorabies Control/Eradication Activities (Veterinary Services (VS) Form 7-1), and recordkeeping; for part 85, a Permit to Move Restricted Animals (VS Form 1-27), a certificate of veterinary inspection (CVI), an owner-shipper statement, and an accredited veterinarian's statement concerning embryos for implantation and semen shipments; and, for part 52, an appraisal and indemnity claim form (VS Form 1-23), a herd management plan, and a report of net salvage proceeds. Additionally, the regulations require swine to be moved to slaughter in a means of conveyance sealed with an official seal.

Since the last approval of these collection activities, APHIS has adjusted the number of responses and respondents. We have increased the estimated annual number of responses to more accurately reflect the changes in production and industry practices, such as the movement of animals from certain slaughter facilities to another. In addition, we overestimated the number of veterinarians participating in swine health-related activities, which resulted in a decrease in the number of CVIs that we estimated would be issued. This contributed to the decrease in the number of respondents. However, the estimated annual number of responses per respondent increased because more swine are being moved due to changes in production practices and participation in exhibitions.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.24 hours per response.

Respondents: U.S. swine herd owners, producers, and shippers; hobby farmers; State animal health officials; and accredited veterinarians.

Estimated annual number of respondents: 5,120.

Estimated annual number of responses per respondent: 28.

Estimated annual number of responses: 144,705.

Estimated total annual burden on respondents: 35,696 hours. (Due to averaging, the total annual burden hours may not equal the product of the annual number of responses multiplied by the reporting burden per response.)

All responses to this notice will be summarized and included in the request for OMB approval. All comments will also become a matter of public record.

Done in Washington, DC, this 18th day of September 2013.
Michael C. Gregoire,
Acting Administrator, Animal and Plant Health Inspection Service.

[FR Doc. 2013-23194 Filed 9-23-13; 8:45 am]

BILLING CODE 3410-34-P